DEPARTMENT OF HEALTH AND HUMAN SERVICES

Administration for Children and Families

Statement of Organization, Functions and Delegation of Authority

Notice is hereby given that I have redelegated to the Associate Director, Office of Family Assistance, the following authorities vested in me by the Assistant Secretary of Administration for Children and Families in the memoranda dated February 16, 2007.

(a) Authorities Delegated

1. Authority to administer the provisions of The Child Development Associate Scholarship Assistance Act, 42 U.S.C. 10901-10905, and as amended now and hereafter.

2. Authority to administer the provisions of Subchapter D—Grants for Planning and Development of Dependent Care Programs and for other purposes (Chapter 8, Title VI of the Omnibus Budget Reconciliation Act of 1981, Pub. L. 97-35, 42 U.S.C. 9871 et seq.), and as amended now and hereafter.

3. Authority for the Child Care and Development Block Grants, under Section 5082 of OBRA 1990 (42 U.S.C. 9858 et seq.), and as amended now and hereafter.

4. Authority to administer the provisions of the Child Care and Development Block Grant Amendments of 1996, 42 U.S.C. 9801 note, under Sections 601-615 of the Personal Responsibility and Work Opportunity Reconciliation Act of 1996, 42 U.S.C. 1305 note, 42 U.S.C. 601 et seq., and, as amended now and hereafter.

(b) Limitations

1. This redelegation of authority shall be exercised under the Department's existing policies on delegations and regulations.

2. This redelegation does not include the authority to disapprove State, Territorial and Tribal child care plans and amendments, or the authority to disapprove Tribal child care construction and renovation applications.

3. This redelegation does not include the authority to issue official policy transmittals such as Program Instructions, Information Memoranda, or other significant guidance documents (as defined by OMB Bulletin No. 07-02).

4. Decisions which result in new policies that affect the program operation of a substantial number of State, Territorial, or Tribal CCDF grantees requires the concurrence of the Director, Office of Family Assistance. Actions likely to have a significant impact on States, Territories, or Tribes or have political ramifications or be subject to or receive adverse publicity shall be brought to the prior attention of the Director, Office of Family Assistance.

5. This redelegation does not include the authority to issue preliminary notices of possible non-compliance, written notices of findings of non-compliance, penalty and sanction notices, or disallowance notices under 42 U.S.C. 9858g(b) and 42 U.S.C. 9858i(b).

6. The authority to approve resolution of audit findings requires the concurrence of the ACF Office of Administration in all cases.

7. This redelegation does not include the authority to submit reports to Congress and shall be exercised under financial and administrative requirements applicable to all Administration for Children and Families authorities.

8. The approval or disapproval of grant applications and the making of grant awards require concurrence of the appropriate Grants Officer. The approval or disapproval of contract proposals and awards are subject to the requirements of the Federal Acquisition Regulations and requires the concurrence of the Contracting Officer.

9. This redelegation of authority does not include the authority to sign and issue notices of grant awards.

10. This redelegation of authority does not include the authority to appoint Action Officials for Audit Resolution.

11. This redelegation of authority does not include the authority to appoint Central Office or Regional Office Grant Officers for the administration of the child care related programs.

12. This redelegation of authority does not include the authority to hold hearings.

13. This redelegation of authority does not include the authority to approve or disapprove awards for grants or contracts for research, demonstration, or evaluations relating to child care.

14. Any further redelegation shall be in writing and prompt notification must be provided to all affected managers, supervisors, and other personnel, and requires the concurrence of the Deputy Assistant Secretary for Administration.

(c) Effective Date

This redelegation was effective on May 2, 2007.

(d) Effect on Existing Delegations

This redelegation supersedes all previous delegations to the Associate Director, Child Care Bureau on these subjects.

I hereby affirm and ratify any actions taken by the Associate Director, Child Care Bureau, which, in effect, involved the exercise of these authorities prior to the effective date of this redelegation.

Dated: May 9, 2007.
Sidonie Squier,
Director, Office of Family Assistance.

[FR Doc. E7-9419 Filed 5-15-07; 8:45 am]

BILLING CODE 4184-01-P